NUCLEAR REGULATORY COMMISSION

[Docket No. 040-06394]

Consideration of Amendment Request for Decommissioning of Department of the Army , U.S. Army Research Laboratory, Depleted Uranium Study Area of the Transonic Range, Aberdeen Proving Ground, Maryland, and Opportunity for a Hearing

AGENCY: Nuclear Regulatory Commission.

ACTION: Notice of consideration of amendment request for decommissioning of Department of the Army, U.S. Army Research Laboratory, Depleted Uranium Study Area of the Transonic Range, Aberdeen Proving Ground, Maryland, and Opportunity for a Hearing.

The U.S. Nuclear Regulatory Commission is considering issuance of an amendment to Source Material License No. SMB-141 (SMB-141), issued to the Department of the Army, U.S. Army Research Laboratory, Aberdeen Proving Ground (the licensee), to authorize decommissioning of the Depleted Uranium Study Area (DUSA) of the Transonic Range at their facility in Aberdeen Proving Ground, Maryland.

On December 15, 1999, the licensee submitted a Decommissioning Plan for the DUSA that summarized the decommissioning activities that will be undertaken to remediate the structures and areas of the surrounding soil at Aberdeen Proving Ground. Some remaining structures and some areas of soil are contaminated with depleted uranium (DU) resulting from licensed operations conducted during the period 1973 to 1979.

The NRC will require the licensee to remediate the DUSA to meet NRC's decommissioning criteria, and during the decommissioning activities, to maintain effluents and doses within NRC requirements and as low as reasonably achievable.

Prior to approving the decommissioning plan, the NRC will have made findings required by the Atomic Energy Act of 1954, as amended, and NRC's regulations. Approval of the Decommissioning Plan for the DUSA will be documented in an amendment to License No. SMB-141.

The NRC hereby provides notice that this is a proceeding on an application for amendment of a license falling within the scope of Subpart L “Informal Hearing Procedures for Adjudication in Materials Licensing Proceedings,” of NRC's rules and practice for domestic licensing proceedings in 10 CFR Part 2. Pursuant to 10 CFR 2.1205(a), any person whose interest may be affected by this proceeding may file a request for a hearing in accordance with 10 CFR 2.1205(c). A request for a hearing must be filed within thirty (30) days of the date of publication of the Federal Register Notice.

The request for the hearing must be filed with the Office of the Secretary either:

1. By delivery to the Docketing and Service Branch of the Secretary at One White Flint North, 11555 Rockville Pike, Rockville, MD 20852-2738; or

2. By mail or telegram addressed to the Secretary, U.S. Nuclear Regulatory Commission, Washington, DC 20555. Attention: Docketing and Service Branch.

In addition to meeting other applicable requirements of 10 CFR part 2 of the NRC's regulations, a request for a hearing filed by a person other than an applicant must describe in detail:

1. The interest of the requester in the proceeding;

2. How that interest may be affected by the results of the proceeding, including the reasons why the requester should be permitted a hearing, with particular reference to the factors set out in 10 CFR 2.1205(g);

3. The requesters areas of concern about the licensing activity that is the subject matter of the proceeding; and

4. The circumstances establishing that the request for a hearing is timely in accordance with 10 CFR 2.1205(c).

In accordance with 10 CFR 2.1205(e), each request for a hearing must also be served, by delivering it personally or by mail, to:

1. The applicant, Department of the Army, U.S. Army Research Laboratory, Aberdeen Proving Ground, Maryland 21005-5066, Attention: David W. Ore, Site Manager; and

2. The NRC staff, by delivery to the Executive Director for Operations, One White Flint North, 11555 Rockville Pike, Rockville, MD 20852, or by mail, addressed to the Executive Director for Operations, U.S. Nuclear Regulatory Commission, Washington, DC 20555.

For further details with respect to this action, the decommissioning plan for building 611B is available for inspection at the NRC's Public Document Room, 2120 L Street N.W., Washington, DC 20555.

Dated at King of Prussia, Pennsylvania, this 21st day of March, 2000.
For the Nuclear Regulatory Commission.
Francis M. Costello,
Deputy Director, Division of Nuclear Materials Safety, RI.

[FR Doc. 00-7965 Filed 3-30-00; 8:45 am]

BILLING CODE 7590-01-P